DEPARTMENT OF STATE

[Public Notice 7650]

U.S. Advisory Commission on Public Diplomacy; Notice of Meeting

The U.S. Advisory Commission on Public Diplomacy will hold a public meeting on November 29, 2011, in Santa Monica, CA, in partnership with the RAND Corporation. The meeting will take place at the RAND offices at 1176 Main Street in Santa Monica, CA, in the Forum Auditorium. The meeting will begin at 9 a.m. and end at 3 p.m. (doors open for registration and continental breakfast at 8:30 a.m.).

The topic is narratives: what they are, how they are shaped and countered. The conference will delve into the impact on narratives of actions and words (primarily U.S. but also others if lessons for us are clearly articulated), and the impact of environmental factors.

This meeting is open to the public, Members and staff of Congress, the State Department, Defense Department, the media, and other governmental and non-governmental organizations. To request further information, or to request reasonable accommodation, contact the Commission at (202) 203-7463 or pdcommission@state.gov. To attend, contact the RAND Corporation by phone at (412) 683-2300 ext 4906 or e-mail to maria_falvo@rand.org and provide your full name, citizenship (U.S. citizenship is not required to attend), and institutional/organizational affiliation.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. William Hybl of Colorado, Chairman; Ambassador Lyndon Olson of Texas, Vice Chairman; Ambassador Penne Korth-Peacock of Texas; Ms. Lezlee Westine of Virginia; and, Mr. Sim Farar of California. Two seats on the Commission are currently vacant.

The following individual has been nominated to the Commission but awaits Senate confirmation as of this writing: Anne Wedner of Illinois.

The Advisory Commission was originally established under Section 604 of the United States Information and Exchange Act of 1948, as amended (22 U.S.C. 1469) and Section 8 of Reorganization Plan Numbered 2 of 1977. The U.S. Advisory Commission on Public Diplomacy is authorized by Public Law 101-246 (2009), 22 U.S.C. 6553, and has been further authorized through November 18, 2011. In the absence of subsequent legislation extending the authority for the Commission, this meeting will be cancelled.

Dated: October 17, 2011.
Jamice M. Clayton,
Administrative Assistant, U.S. Department of State.

[FR Doc. 2011-27732 Filed 10-25-11; 8:45 am]

BILLING CODE 4710-11-P